DEPARTMENT OF COMMERCE

National Oceanic and Atmospheric Administration

[I.D. 041502A]

Marine Fisheries Advisory Committee; Public Meetings

AGENCY: National Marine Fisheries Service (NMFS), National Oceanic and Atmospheric Administration(NOAA), Commerce.

ACTION: Notice of publicmeetings.

SUMMARY: The Marine Fisheries Advisory Committee (MAFAC) will meet May 7 through 9, 2002.

DATES: The meetings are scheduled as follows:

1. May 7,2002, 9 a.m.-5 p.m.

2. May 8, 2002, 9 a.m.-5 p.m.

3. May 9, 2002, 8 a.m.-4 p.m.

ADDRESSES: The meetings willbe held at Holiday Inn By The Bay, 88 Spring Street, Portland, ME. Requests for special accommodations may be directed to MAFAC, Office of Constituent Services, NMFS, 1315 East-West Highway, Silver Spring, MD 20910.

FOR FURTHER INFORMATION CONTACT: Laurel Bryant, Designated Federal Official; telephone: (301) 713-9501 ext. 171.

SUPPLEMENTARY INFORMATION: As required by section 10(a) (2)of the Federal Advisory Committee Act, 5 U.S.C. App. (1982), notice is hereby given of meetings of MAFAC and MAFAC Subcommittees. MAFAC was established by the Secretary of Commerce (Secretary) on February 17, 1972, to advise the Secretary on all living marine resource matters that are the responsibility of the Department of Commerce. This Committee ensures that the living marine resource policies and programs of the Nation consider the needs of recreational and commercial fisheries, and of environmental, state, consumer, academic, tribal,and other national interests.

Matters to Be Considered

May 7, 2002

General Overview of meeting goals and scheduled events, FY03 Budget Status, Ecosystem Management project update, status of various agency initiatives, and review of Committee’s advisory role and process.

May 8, 2002

Report and discussion on the status of Bycatch, Regulatory Streamlining and National Environmental Policy Act project, Individual Fishing Quota status in Magnuson-Stevens reauthorization, and review of New England groundfish issues.

May 9, 2002

Subcommittee meetings with wrap-up reports and adjournment.

Time will be set aside for public comment on agenda items.

Special Accommodations

These meetings are physically accessible to people with disabilities. Requests for sign language interpretation or other auxiliary aids should be directed to MAFAC (see ADDRESSES).

Dated: April 16, 2002.
William T. Hogarth,
Assistant Administrator for Fisheries, National Marine Fisheries Service.

[FR Doc. 02-9810 Filed 4-19-02; 8:45 am]

BILLING CODE 3510-22-S